DEPARTMENT OF HEALTH AND HUMAN SERVICES

Centers for Disease Control and Prevention

Decision To Evaluate a Petition To Designate a Class of Employees From the Pinellas Plant in Clearwater, Florida, To Be Included in the Special Exposure Cohort

AGENCY: National Institute for Occupational Safety and Health (NIOSH), Centers for Disease Control and Prevention, Department of Health and Human Services.

ACTION: Notice.

SUMMARY: NIOSH gives notice of a decision to evaluate a petition to designate a class of employees from the Pinellas Plant in Clearwater, Florida, to be included in the Special Exposure Cohort under the Energy Employees Occupational Illness Compensation Program Act of 2000.

FOR FURTHER INFORMATION CONTACT: Grady Calhoun, Director, Division of Compensation Analysis and Support, National Institute for Occupational Safety and Health, 1090 Tusculum Avenue, MS C-46, Cincinnati, OH 45226-1938, Telephone 513-533-6800. Information requests can also be submitted by email to DCAS@CDC.GOV.

SUPPLEMENTARY INFORMATION: Pursuant to 42 CFR 83.12, the initial proposed definition for the class being evaluated, subject to revision as warranted by the evaluation, is as follows:

Facility: Pinellas Plant.

Location: Clearwater, Florida.

Job Titles and/or Job Duties: All employees who worked in any areas of Pinellas Plant.

Period of Employment: May 19, 1957 through December 31, 1997.

Authority: 42 CFR 83.9-83.12.

John J. Howard,
Director, National Institute for Occupational Safety and Health.

[FR Doc. 2020-24123 Filed 10-29-20; 8:45 am]

BILLING CODE 4163-18-P